ENVIRONMENTAL PROTECTION AGENCY

40 CFR Part 52

[EPA-R01-OAR-2017-0102 and EPA-R01-OAR-2016-0758; FRL-9962-01-Region 1]

Air Plan Approval; NH; Nonattainment New Source Review and Prevention of Significant Deterioration Permit Program Revisions; Public Hearing Revisions for State Permitting Programs; Withdrawal of Permit Fee Program; Infrastructure Provisions for National Ambient Air Quality Standards

AGENCY: Environmental Protection Agency (EPA).

ACTION: Direct final rule and correcting amendment.

SUMMARY: The Environmental Protection Agency (EPA) is approving several different State Implementation Plan (SIP) revisions submitted to EPA by the New Hampshire Department of Environmental Services (NHDES). New Hampshire submitted to EPA on October 26, 2016, revisions satisfying the NHDES's earlier commitment to adopt and submit provisions that meet certain requirements of the federal Prevention of Significant Deterioration (PSD) and Nonattainment New Source Review (NNSR) air permit program regulations. This action will convert to full approval EPA's September 25, 2015 conditional approval of New Hampshire's PSD and NNSR permit programs. This action also will approve NHDES's SIP revisions relating to several New Hampshire infrastructure SIPs, which were conditionally approved by EPA on December 16, 2015 and July 8, 2016.

Additionally, EPA is also approving: A January 31, 2017 SIP revision amending the public notice and hearing procedures for New Hampshire's NNSR, PSD, and minor NSR permit programs; a January 18, 2017 SIP revision withdrawing the State SIP's permit fee system; and a November 17, 2015 SIP revision that addresses the good neighbor provisions of New Hampshire's infrastructure SIP for the 2010 nitrogen oxide (NO2) national ambient air quality standard (NAAQS). This action is being taken in accordance with the Clean Air Act (CAA).

Lastly, EPA issued a correcting amendment in the Federal Register on May 5, 2017. An error occurred in an amendatory instruction and the table entry for “Infrastructure SIP for the 2010 SO2 NAAQS” could not be incorporated into the CFR. The EPA is correcting that error.

DATES: The correcting amendment is effective May 25, 2017. This direct final rule is effective July 24, 2017, unless EPA receives adverse comments by June 26, 2017. If adverse comments are received, EPA will publish a timely withdrawal of the direct final rule in the Federal Register informing the public that the rule will not take effect.

ADDRESSES: Submit your comments, identified by Docket ID No. EPA-R01-OAR-2017-0102 and EPA-R01-OAR-2016-0758 at https://www.regulations.gov, or via email to McDonnell.Ida@epa.gov. For comments submitted at Regulations.gov, follow the online instructions for submitting comments. Once submitted, comments cannot be edited or removed from Regulations.gov. For either manner of submission, the EPA may publish any comment received to its public docket. Do not submit electronically any information you consider to be Confidential Business Information (CBI) or other information whose disclosure is restricted by statute. Multimedia submissions (audio, video, etc.) must be accompanied by a written comment. The written comment is considered the official comment and should include discussion of all points you wish to make. The EPA will generally not consider comments or comment contents located outside of the primary submission (i.e. on the web, cloud, or other file sharing system). For additional submission methods, please contact the person identified in the FOR FURTHER INFORMATION CONTACT section. For the full EPA public comment policy, information about CBI or multimedia submissions, and general guidance on making effective comments, please visit https://www2.epa.gov/dockets/commenting-epa-dockets.

FOR FURTHER INFORMATION CONTACT: Ida E. McDonnell, Manager, Air Permits, Toxics, and Indoor Programs Unit, Office of Ecosystem Protection, U.S. Environmental Protection Agency, EPA New England Regional Office, 5 Post Office Square, Suite 100, (OEP05-2), Boston, MA 02109-3912, phone number (617) 918-1653, fax number (617) 918-0653, email McDonnell.Ida@epa.gov.

SUPPLEMENTARY INFORMATION: Throughout this document whenever “we,” “us,” or “our” is used, we mean EPA.

Table of Contents

I. New Hampshire's October 26, 2106 SIP Submittal Addressing EPA's September 25, 2015, December 16, 2015, and July 8, 2016 Conditional Approvals Regarding Env-A 600

A. What is the background information for EPA's September 25, 2015, December 16, 2015, and July 8, 2016 conditional approvals?

B. What is a conditional approval?

C. What are the terms of the September 25, 2015, December 16, 2015, and July 8, 2016 conditional approvals?

D. Were the terms of the September 25, 2015, December 16, 2015, and July 8, 2016 conditional approvals met?

E. Other Revisions to Env-A 600.

II. Approval of New Hampshire's January 31, 2017 SIP Submittal Revising the Notice and Hearing Procedures for the State's NNSR, PSD, and Minor NSR Permit Programs

III. Approval of New Hampshire's January 18, 2017 SIP Submittal Withdrawing Env-A 700 Permit Fee System From SIP-Approved Regulations

IV. Approval of New Hampshire's November 17, 2015 SIP Submittal Addressing the 2010 NO2 NAAQS Infrastructure SIP Requirements Under Section 110(a)(2)(D)(i)(I) of the CAA

A. What is the background information for New Hampshire's November 17, 2015 SIP submittal?

B. What is required under Section 110(a)(2)(D)(i)(I)?

C. How did New Hampshire meet these requirements for the 2010 NO2 NAAQS?

V. Final Action.

A. Full Approval of EPA's September 25, 2015, December 16, 2015, and July 8, 2016 Conditional Approvals

B. Approval of New Hampshire's January 31, 2017 SIP Submittal Revising the Notice and Hearing Procedures for the State's NNSR and PSD Permit Programs and Minor NSR Permit Program

C. Approval of New Hampshire's January 18, 2017 SIP Submittal Withdrawing Env-A 700 Permit Fee System From SIP-Approved Regulations

D. Approval of New Hampshire's November 17, 2015 SIP Submittal Addressing the 2010 NO2 NAAQS Infrastructure SIP Requirements Under Section 110(a)(2)(D)(i)(I) of the CAA

E. Rationale for Direct Final Rulemaking

VI. Incorporation by Reference

VII. Statutory and Executive Order Reviews

I. New Hampshire's October 26, 2016 SIP Submittal Addressing EPA's September 25, 2015, December 16, 2015, and July 8, 2016 Conditional Approvals Regarding Env-A 600

A. What is the background information for EPA's September 25, 2015, December 16, 2015 and July 8, 2016 conditional approvals?

On September 25, 2015, EPA published a final conditional approval for NHDES's November 15, 2012 SIP revision. See 80 FR 57722. That conditional approval identified three provisions required under Federal PSD and NNSR program regulations that were not included in the State's November 15, 2012 SIP submittal.

On December 16, 2015 and July 8, 2016, EPA published final conditional approvals of several of New Hampshire's infrastructure SIP revisions, i.e., those for the 2008 ozone NAAQS, the 2008 lead NAAQS, the 2010 NO2 NAAQS, the 2010 SO2 NAAQS, the 1997 PM2.5 NAAQS and the 2006 PM2.5 NAAQS. These conditional approvals identified one of the same provisions that was not included in the State's November 15, 2012 SIP submittal, i.e., notice of major source permits to affected states and Indian Governing bodies. See 80 FR 78135 and 81 FR 44542.

B. What is a conditional approval?

Under section 110(k)(4) of the CAA, EPA may conditionally approve a plan based on a commitment from the State to adopt specific enforceable measures by a date certain no later than one year from the effective date of final conditional approval. If the EPA subsequently determines that the State has met its commitment, EPA publishes a document in the Federal Register notifying the public that EPA is converting the conditional approval to a full approval.

However, if the State fails to meet its commitment in a timely manner, then the conditional approval automatically converts to a disapproval by operation of law without further action required by EPA. If that were to occur, EPA would then notify the State by letter. At that time, the conditionally approved SIP revisions would not be part of the State's approved SIP. EPA subsequently would publish a document in the Federal Register notifying the public that the conditional approval automatically converted to a disapproval.

C. What are the terms of the September 25, 2015, December 16, 2015, and July 8, 2016 conditional approvals?

EPA's September 25, 2015 conditional approval required the NHDES to submit revised regulations that address three separate provisions of EPA's PSD and NNSR program regulations that were not included in the State's November 15, 2012 SIP submittal. To address the conditional approval, on October 26, 2016, the NHDES submitted regulatory provisions for approval into the State's SIP. The three provisions include the following:

• 40 CFR 51.165(a)(5)(i), which notifies any owner or operator that approval to construct shall not relieve them of the responsibility to comply fully with applicable provisions of the plan and any other requirements under local, State or Federal law;

• 40 CFR 51.165(a)(6) and (7), which require additional record keeping and other requirements applicable at major stationary sources for projects that are not major modifications based on the required actual-to-projected actual test, but which have a “reasonable possibility” of resulting in a significant emission increase; and

• 40 CFR 51.166(q)(2)(iv), which requires notice of a draft PSD permit to be sent to, among other entities, state air agencies and Indian Governing bodies whose lands may be affected by emissions from the permitted source. Only the references to “state air agencies” and “Indian Governing bodies” were missing from New Hampshire's regulatory provision.

With respect to the issue noted previously relating to the State's obligation to provide notice to states and Indian governing bodies, EPA's December 16, 2015 conditional approval and July 8, 2016 conditional approval, applicable to the State's infrastructure SIPs (identified earlier in this action), both required the NHDES to address the requirements of CAA sections 110(a)(2)(C), (D) and (J) as they relate to the NHDES's obligation to send notice of draft PSD permits to other state air agencies and Indian Governing bodies whose lands may be affected by emissions from the permitted source, as required under 40 CFR 51.166(q)(2)(iv). The NHDES regulatory provisions submitted to EPA on October 26, 2016 also properly addressed these infrastructure SIP conditional approvals.

D. Were the terms of the September 25, 2015, December 16, 2015, and July 8, 2016 conditional approvals met?

As noted previously, on October 26, 2016, the NHDES submitted to EPA the three provisions identified in the September 25, 2015 conditional approval. EPA reviewed the three provisions and found they met the terms of the September 25, 2015 conditional approval. Accordingly, EPA is converting the September 25, 2015 conditional approval to a full approval. Also, as noted previously, because the October 26, 2016 submittal included provisions that met the terms of the December 16, 2015 and July 8, 2016 infrastructure conditional approvals, EPA is also converting the December 16, 2015 and July 8, 2016 conditional approvals to full approvals.

EPA provided an analysis of its approval of the three regulatory provisions in question in a technical support document (TSD), which is included in the docket and administrative record for this action.

E. Other Revisions to Env-A 600

NHDES's October 26, 2016 submittal also contained revisions to Env-A 618.01 and Env-A 619, for the purpose of updating to July 1, 2016 the incorporation by reference date used in the New Hampshire's regulations implementing 40 CFR 51.165 and 40 CFR 52.21. New Hampshire also requested in its October 26, 2016 SIP submittal that EPA remove from the New Hampshire SIP sections Env-A 619.03(c)(2) and (c)(3). By removing sections Env-A 619.03(c)(2) and (c)(3), New Hampshire's SIP-approved definitions of “allowable emissions” and “potential to emit” are now identical to EPA's definitions of those terms in 40 CFR 52.21 (as of July 1, 2016). The changes to these two definitions satisfies CAA section 110(l) because simply including the notion of federal enforceability into these definitions will not interfere with any applicable requirement concerning attainment of a NAAQS or reasonable further progress (as defined by the CAA) or any other applicable CAA requirement. Additionally, the State's October 26, 2016 submittal included a change to Env-A 619.07(d) so that the State regulations now correctly identify the proper citation for the public notice requirements relating to PSD permits.

II. Approval of New Hampshire's January 31, 2017 SIP Submittal Revising the Notice and Hearing Procedures for the State's NNSR, PSD, and Minor NSR Permit Programs

On January 31, 2017, New Hampshire submitted SIP revisions to Env-A 621, Permit Notice and Hearing Procedures: Temporary Permits and Permits to Operate. Env-A 621 establishes the public notice requirements for the State's NNSR, PSD and minor NSR permit programs, and replaces the current SIP-approved public notice requirements under Env-A 205, Public Notice and Hearing Procedures. The SIP revisions include provisions that render New Hampshire's PSD program's public notice requirements consistent with the Federal SIP-approved PSD program's public notice requirements under 40 CFR 51.166(q). The SIP revisions also render New Hampshire's NNSR permit program's public notice requirements consistent with the public notice requirements under 40 CFR 51.166(q), even though the applicable Federal rules only require SIP-approved NNSR permit programs to meet the less prescriptive air permit program public notice requirements under 40 CFR 51.161. Since the public notice requirements under 40 CFR 51.166(q) are more comprehensive than 40 CFR 51.161, New Hampshire's revisions to the public notice requirements of its NNSR permit programs are fully approvable. Finally, New Hampshire's revisions to the public notice requirements applicable to its minor NSR permit program are consistent with 40 CFR 51.161. The minor NSR permit program consists of those federal permit rules that apply to new or modified emission units with emission increases below the PSD and NNSR program applicability threshold levels. Since the provisions of Env-A 621 are replacing and thus supersede the current SIP-approved public notice requirements under Env-A 205, Public Notice and Hearing Procedures, NHDES requested that EPA remove Env-A 205 from the SIP.

EPA has provided an analysis of these amendments in the TSD document which is included in the docket and administrative record for this action.

III. Approval of New Hampshire's January 18, 2017 SIP Submittal Withdrawing Env-A 700 Permit Fee System From SIP-Approved Regulations

On January 18, 2017, the NHDES submitted to EPA a SIP revision requesting the withdrawal of Env-A 700 Permit Fee system from the New Hampshire SIP. EPA is approving this revision on the grounds that it is consistent with the CAA Amendments of 1990 at section 110(a)(2)(L). That section of the CAA requires SIPs to contain permit fee programs which sufficiently cover the cost of SIP-approved major source permitting programs, i.e., NNSR and PSD. Section 110(a)(2)(L) further states that the SIP requirement for a permit fee system may be superseded if a state's fee program under subchapter V of the CAA Amendments (colloquially referred to as the title V operating permit program) is applicable to the same sources and is approved by the Administrator. New Hampshire's title V operating permit program received interim approval in 1996 and full approval in 2001. In EPA's proposed interim approval, we stated that “. . .New Hampshire has demonstrated that the state is collecting sufficient permit fees to meet EPA's [title V operating permitting program requirements].” See 61 FR 42225 (August 14, 1996). Furthermore, New Hampshire's title V operating permit program covers the same sources as the SIP-approved major source permitting programs.

IV. Approval of New Hampshire's November 17, 2015 SIP Submittal Addressing the 2010 NO2 NAAQS Infrastructure SIP Requirements Under Section 110(a)(2)(D)(i)(I) of the CAA

A. What is the background information for New Hampshire's November 17, 2015 SIP submittal?

On November 17, 2015, NHDES submitted to EPA as a SIP revision its “Amendment to New Hampshire [sic] 2008 Ozone 8-hour and 2010 Nitrogen Dioxide 1-hour NAAQS Infrastructure SIPs to Address the Good Neighbor Requirements of Clean Air Act Section 110(a)(2)(D)(i)(I).” EPA approved this submittal with respect to the 2008 ozone NAAQS on October 13, 2016 (81 FR 70631). Our evaluation of the submittal with respect to the 2010 NO2 standard is discussed later in this preamble.

B. What is required under section 110(a)(2)(D(i)(I)?

Section 110(a)(2)(D)(i)(I) of the CAA, known as the “good neighbor provision,” requires each state to include “adequate provisions” in its SIP prohibiting “any source or other type of emissions activity within the State from emitting any air pollutant in amounts which will contribute significantly to nonattainment in, or interfere with maintenance by, any other State with respect to any [national ambient air quality standard].” 42 U.S.C. 7410(a)(2)(D)(i)(I). New Hampshire was required to address these provisions for the 2010 NO2 NAAQS.

C. How did New Hampshire meet these requirements for the 2010 NO2 NAAQS?

New Hampshire's infrastructure SIP submission to address the good neighbor requirements of CAA section 110(a)(2)(D)(i)(I) notes that on January 20, 2012, EPA designated all areas of the country as “unclassifiable/attainment” for the 2010 NO2 NAAQS. EPA did this because design values (DVs) for the 2008-2010 period at all monitored sites met the NAAQS. Measurements from 2013-2015 indicate continued attainment of the 2010 NO2 NAAQS throughout the country. New Hampshire currently operates one NO2 monitor located in Londonderry. The DV is based on the 3-year average of the 98th percentile of the yearly distribution of 1-hour daily maximum concentrations. The 98th percentile in 2014 and 2015 were 25.3 and 22.7 parts per billion (ppb), respectively. (The State has insufficient data to determine the DV for the entire period from 2013 through 2015 due to the lack of data capture in 2013.) The values from 2014 and 2015, however, are significantly less than the national ambient air quality standard for NO2, which is 100 ppb. However, the absence of a violating ambient air quality monitor within the State is insufficient by itself to demonstrate that New Hampshire has met its interstate transport obligation. While the DV may help to assist in characterizing air quality within New Hampshire, section 110(a)(2)(D)(i)(I) specifically addresses the effects that sources within New Hampshire have on air quality in neighboring states. Therefore, an evaluation and analysis of DV's in neighboring states is appropriate.

Table I contains the highest NO2 design values for the three states neighboring New Hampshire, i.e., Maine, Vermont, and Massachusetts.

Table 1—Highest NO2 Design Values in PPB for AQS Monitors in Massachusetts, Vermont, and Maine
State | AQS monitor site | Monitor location | Design value (2013-2015)
Maine | 23-003-1100 | Presque Isle | 20
Massachusetts * | 25-025-0002 | Boston | 51
Vermont | 500210002 | Rutland | 37
* There were three monitoring sites with DV of 51 ppb in Massachusetts. Two were in Boston and one was in Worcester.

As shown by the Table 1 chart in this preamble, the highest NO2 design value in each neighboring state is significantly less than the NO2 NAAQS. As a result, EPA finds that sources or emissions activity from within New Hampshire will not interfere with other states' ability to attain and maintain the 2010 NO2 NAAQS.

The New Hampshire submittal notes that New Hampshire nitrogen oxides (NOX) emissions have been declining, with total statewide NOX emissions dropping from 69,836 tons in 2002 to 37,292 tons in 2011. In 2014, statewide NOX emissions were 36,014 tons. Our review of NOX emissions data from New Hampshire sources, which New Hampshire has entered into the EPA National Emissions Inventory database, confirms this emission data. In light of the analysis, EPA is approving New Hampshire's infrastructure submittal for the 2010 NO2 NAAQS as it pertains to section 110(a)(2)(D)(i)(I) of the CAA.

V. Final Action

A. Full Approval of EPA's September 25, 2015, December 16, 2015, and July 8, 2016 Conditional Approvals

EPA is approving the PSD and NNSR permitting program provisions included in NHDES's October 22, 2016 SIP submittal and is converting the September 25, 2015 conditional approval to a full approval. EPA is also converting the December 16, 2015 and July 8, 2016 conditional approvals relating to New Hampshire's infrastructure SIPs¹ for the 2008 ozone, 2008 Lead, 2010 SO2, 2010 NO2, 1997 PM2.5, and the 2006 PM2.5 NAAQS, to a full approval.

¹ Specifically, the State's SIP revision submission addressed the public notice requirements discussed earlier in this action.

B. Approval of New Hampshire's January 31, 2017 SIP Submittal Revising the Notice and Hearing Procedures for the State's NNSR and PSD Permit Programs and Minor NSR Permit Program

EPA is approving into the New Hampshire SIP Env-A 621, Permit Notice and Hearing Procedures: Temporary permits and Permits to Operate submitted on January 31, 2017. In addition, since the provisions under Env-A 621 supersede the current SIP-approved public hearing provisions under Env-A 205 Public Notice and Hearing Procedures, EPA is removing Env-A 205 in its entirety from the SIP. Because the requirements of Env-621 are no less stringent that the requirements of Env-A 205, this SIP revision also meets section 110(l) of the CAA.

C. Approval of New Hampshire's January 18, 2017 SIP Submittal Withdrawing Env-A 700 Permit Fee System From SIP-Approved Regulations

EPA is approving NHDES's January 18, 2017 submittal requesting withdrawal of Env-A 700 Permit Fee System from the New Hampshire SIP. EPA finds that the New Hampshire SIP revision is consistent with the requirements of section 110(a)(2)(L) of the CAA, as described earlier in this action. EPA is therefore removing Env-A 700 in its entirety from the SIP in light of the State's title V operating permit program fee requirements.

D. Approval of New Hampshire's November 17, 2015 SIP Submittal Addressing the 2010 NO2 NAAQS Infrastructure SIP Requirements Under Section 110(a)(2)(D)(i)(I) of the CAA

EPA is approving NHDES's November 17, 2015 submittal that addresses the infrastructure SIP requirements under Section 110(a)(2)(D)(i)(I) for the 2010 NO2 NAAQS. The analysis provided in the submittal shows that: (1) NO2 concentrations in New Hampshire are significantly below the 2010 NO2 NAAQS; (2) NOX emissions within New Hampshire continue to decrease over time; and (3) sources of NOX emissions, or other types of emissions activity, in New Hampshire do not contribute significantly to nonattainment in, or interfere with maintenance by, any other State with respect to the NO2 NAAQS.

E. Rationale for Direct Final Rulemaking

EPA is publishing these actions without prior proposal because the Agency views these as noncontroversial amendments and anticipates no adverse comments. However, in the proposed rules section of this Federal Register publication, EPA is publishing a separate document that will serve as the proposal to approve the SIP revisions should relevant adverse comments be filed. This rule will be effective July 24, 2017 without further notice unless the Agency receives relevant adverse comments by June 26, 2017.

If the EPA receives such comments, then EPA will publish a document withdrawing the final rule and informing the public that the rule will not take effect. All public comments received will then be addressed in a subsequent final rule based on the proposed rule. The EPA will not institute a second comment period on the proposed rule. All parties interested in commenting on the proposed rule should do so at this time. If no such comments are received, the public is advised that this rule will be effective on July 24, 2017 and no further action will be taken on the proposed rule. Please note that if EPA receives adverse comment on an amendment, paragraph, or section of this rule and if that provision may be severed from the remainder of the rule, EPA may adopt as final those provisions of the rule that are not the subject of an adverse comment.

VI. Incorporation by Reference

In this rule, the EPA is finalizing regulatory text that includes incorporation by reference. In accordance with requirements of 1 CFR 51.5, the EPA is finalizing the incorporation by reference of New Hampshire's Env-A 618, Env-A 619.03, Env-A 619.07, and Env-A 621 (except for Env-A 621.10) and the removal of Env-A 205 and Env-A 700 described in the amendments to 40 CFR part 52 set forth below. The EPA has made, and will continue to make, these materials generally available through www.regulations.gov, and/or at the EPA Region 1 Office (please contact the person identified in the For Further Information Contact section of this preamble for more information).

VII. Statutory and Executive Order Reviews

Under the Clean Air Act, the Administrator is required to approve a SIP submission that complies with the provisions of the Act and applicable Federal regulations. 42 U.S.C. 7410(k); 40 CFR 52.02(a). Thus, in reviewing SIP submissions, EPA's role is to approve state choices, provided that they meet the criteria of the Clean Air Act. Accordingly, this action merely approves state law as meeting Federal requirements and does not impose additional requirements beyond those imposed by state law. For that reason, this action:

• Is not a significant regulatory action subject to review by the Office of Management and Budget under Executive Orders 12866 (58 FR 51735, October 4, 1993) and 13563 (76 FR 3821, January 21, 2011);

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have Federalism implications as specified in Executive Order 13132 (64 FR 43255, August 10, 1999);

• Is not an economically significant regulatory action based on health or safety risks subject to Executive Order 13045 (62 FR 19885, April 23, 1997);

• Is not a significant regulatory action subject to Executive Order 13211 (66 FR 28355, May 22, 2001);

• Is not subject to requirements of Section 12(d) of the National Technology Transfer and Advancement Act of 1995 (15 U.S.C. 272 note) because application of those requirements would be inconsistent with the Clean Air Act; and

• Does not provide EPA with the discretionary authority to address, as appropriate, disproportionate human health or environmental effects, using practicable and legally permissible methods, under Executive Order 12898 (59 FR 7629, February 16, 1994).

In addition, the SIP is not approved to apply on any Indian reservation land or in any other area where EPA or an Indian tribe has demonstrated that a tribe has jurisdiction. In those areas of Indian country, the rule does not have tribal implications and will not impose substantial direct costs on tribal governments or preempt tribal law as specified by Executive Order 13175 (65 FR 67249, November 9, 2000).

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. EPA will submit a report containing this action and other required information to the U.S. Senate, the U.S. House of Representatives, and the Comptroller General of the United States prior to publication of the rule in the Federal Register. A major rule cannot take effect until 60 days after it is published in the Federal Register. This action is not a “major rule” as defined by 5 U.S.C. 804(2).

Under section 307(b)(1) of the Clean Air Act, petitions for judicial review of this action must be filed in the United States Court of Appeals for the appropriate circuit by July 24, 2017. Filing a petition for reconsideration by the Administrator of this final rule does not affect the finality of this action for the purposes of judicial review nor does it extend the time within which a petition for judicial review may be filed, and shall not postpone the effectiveness of such rule or action. Parties with objections to this direct final rule are encouraged to file a comment in response to the parallel notice of proposed rulemaking for this action published in the proposed rules section of this Federal Register, rather than file an immediate petition for judicial review of this direct final rule, so that EPA can withdraw this direct final rule and address the comment in the proposed rulemaking. This action may not be challenged later in proceedings to enforce its requirements. (See section 307(b)(2).)

List of Subjects in 40 CFR Part 52

Environmental protection, Air pollution control, Carbon monoxide, Incorporation by reference, Intergovernmental relations, Lead, Nitrogen dioxide, Ozone, Particulate matter, Reporting and recordkeeping requirements, Sulfur oxides, Volatile organic compounds.

Dated: April 19, 2017.
Deborah A. Szaro,
Acting Regional Administrator, EPA New England.

Correction

In final rule FR Doc. 2017-09028, published in the issue of Friday, May 5, 2017 (82 FR 21123), make the following correction:

On page 21123, in the third column, remove amendatory instruction 2.

Part 52 of chapter I, title 40 of the Code of Federal Regulations is amended as follows:

PART 52—APPROVAL AND PROMULGATION OF IMPLEMENTATION PLANS

1. The authority citation for part 52 continues to read as follows:

Authority: 42 U.S.C. 7401 et seq.

Subpart EE—New Hampshire

§ 52.1519 [Amended]

2. Section 52.1519 is amended by removing and reserving paragraphs (a)(5) through (11).

3. Section 52.1520 is amended by:

a. In the table in paragraph (c):

i. Revising the entries for “Env-A 200” and “Env-A 600”; and

ii. Removing the entry for “Env-A 700”; and

b. In the table in paragraph (e):

i. Revising the entries “Infrastructure SIP for 2008 ozone NAAQS”, “Infrastructure SIP for the 2008 Lead NAAQS”, “Infrastructure SIP for the 2010 NO2 NAAQS”, “Infrastructure SIP for the 1997 PM2.5 NAAQS”, and “Infrastructure SIP for 2006 PM2.5 NAAQS”;

ii. Adding the entry “Infrastructure SIP for the 2010 SO2 NAAQS” after the entry “Infrastructure SIP for the 2010 NO2 NAAQS”; and

iii. Adding an entry for “Transport SIP for the 2010 NO2 Standard” at the end of the table.

The revisions and additions reads as follows:

§ 52.1520 Identification of plan.

* * * * *

(c) * * *

EPA-Approved New Hampshire Regulations
State citation | Title/subject | State effective date | EPA approval date ¹ | Explanations
* * * * * * *
Env-A 200 | Permit Notice and Hearing Procedures |  | 5/25/17 [Insert Federal Register citation] | Removal of Env-A 205 from SIP
* * * * * * *
* * * * * * *
Env-A 600 | Statewide Permit System | 10/22/16 | 5/25/17 [Insert Federal Register citation] | Revisions to Env-A 618.01, 618.02(c), Env-A 618.04(b), Env-A 618.04(d), Env-A 619.03(c), 619.07 and Env-A 621(except for 621.10)
* * * * * * *
¹ In order to determine the EPA effective date for a specific provision listed in this table, consult the Federal Register notice cited in this column for the particular provision.

* * * * *

(e) * * *

New Hampshire NonRegulatory
Name of nonregulatory SIP provision | Applicable geographic or nonattainment area | State submittal date/effective date | EPA approved date ³ | Explanations
* * * * * * *
Infrastructure SIP for 2008 ozone NAAQS | Statewide | 12/31/2012 | 5/25/2017 [Insert Federal Register citation] | Items that were conditionally approved on 12/16/15 are now fully approved.
Infrastructure SIP for the 2008 Lead NAAQS | Statewide | 11/7/2011 | 5/25/2017 [Insert Federal Register citation] | Items that were conditionally approved on 12/16/15 are now fully approved.
Infrastructure SIP for the 2010 NO2 NAAQS | Statewide | 1/28/2013 | 5/25/2017 [Insert Federal Register citation] | Items that were conditionally approved on 12/16/15 are now fully approved.
Infrastructure SIP for the 2010 SO2 NAAQS | Statewide | 7/13/2013 | 5/25/2017 [Insert Federal Register citation] | Items that were conditionally approved on 7/8/2016 are now fully approved.
Infrastructure SIP for the 1997 PM2.5 NAAQS | Statewide | 7/3/2012 | 5/25/2017 [Insert Federal Register citation] | Items that were conditionally approved on 12/16/15 are now fully approved.
Infrastructure SIP for 2006 PM2.5 NAAQS | Statewide | 9/18/2009 | 5/25/2017 [Insert Federal Register citation] | Items that were conditionally approved on 12/16/15 are now fully approved.
* * * * * * *
Transport SIP for the 2010 NO2 Standard | Statewide | 11/17/2015 | 5/25/2017 [Insert Federal Register citation] |
³ In order to determine the EPA effective date for a specific provision listed in this table, consult the Federal Register notice cited in this column for the particular provision.

[FR Doc. 2017-09536 Filed 5-24-17; 8:45 am]

BILLING CODE 6560-50-P